DEPARTMENT OF HOMELAND SECURITY

Federal Emergency Management Agency

44 CFR Part 67

[Docket ID FEMA-2010-0003; Internal Agency Docket No. FEMA-B-1085]

Proposed Flood Elevation Determinations

AGENCY: Federal Emergency Management Agency, DHS.

ACTION: Proposed rule; correction.

SUMMARY: On February 5, 2010, FEMA published in the Federal Register a proposed rule that contained an erroneous table. This notice provides corrections to that table, to be used in lieu of the information published at 75 FR 5909. The table provided here represents the flooding source, location of referenced elevations, effective and modified elevations, and community affected for Ballard County, Kentucky, and Incorporated Areas. Specifically, it addresses the following flooding sources: Cane Creek (backwater effects from Mississippi, Hazel Creek (backwater effects from Ohio River), Humphrey Creek (backwater effects from Ohio River), Humphrey Creek Tributary 9 (backwater effects from Ohio River), Lucy Creek (backwater effects from Ohio River), Mississippi River, Ohio River, and Stovall Creek (backwater effects from Mississippi River.

DATES: Comments are to be submitted on or before March 11, 2013.

ADDRESSES: You may submit comments, identified by Docket No. FEMA-B-1085, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 5909, in the February 5, 2010, issue of the Federal Register, FEMA published a table under the authority of 44 CFR 67.4. The table, entitled “Ballard County, Kentucky, and Incorporated Areas” addressed the following flooding sources: Cane Creek (backwater effects from Mississippi, Hazel Creek (backwater effects from Ohio River), Humphrey Creek (backwater effects from Ohio River), Humphrey Creek Tributary 9 (backwater effects from Ohio River), Lucy Creek (backwater effects from Ohio River), Mississippi River, Ohio River, and Stovall Creek (backwater effects from Mississippi River. That table contained inaccurate information as to the communities affected for the flooding source the Mississippi River. In this notice, FEMA is publishing a table containing the accurate information, to address these prior errors. The information provided below should be used in lieu of that previously published.

Flooding source(s) | Location of referenced elevation ** | * Elevation in feet (NGVD) + Elevation in feet (NAVD) #Depth in feet above ground ‸ Elevation in meters (MSL): Effective | * Elevation in feet (NGVD) + Elevation in feet (NAVD) #Depth in feet above ground ‸ Elevation in meters (MSL): Modified | Communities affected
Ballard County, Kentucky and Incorporated Areas
Cane Creek (backwater effects from Mississippi River) | From the confluence with Shawnee Creek Slough to approximately 2.3 miles upstream of confluence with Shawnee Creek Slough | +331 | +330 | Unincorporated Areas of Ballard County.
Hazel Creek (backwater effects from Ohio River) | From the confluence with Brushy Pond Creek to approximately 3.2 miles upstream of the confluence with Brushy Pond Creek | +332 | +331 | Unincorporated Areas of Ballard County.
Humphrey Creek (backwater effects from Ohio River | From the confluence with Lucy Creek to approximately 2,007 feet upstream of the confluence with Lucy Creek | +332 | +331 | Unincorporated Areas of Ballard County.
Humphrey Creek Tributary 9 (backwater effects from Ohio River) | From the confluence with Humphrey Creek to approximately 1,320 feet upstream of the confluence with Humphrey Creek | +332 | +331 | Unincorporated Areas of Ballard County.
Lucy Creek (backwater effects from Ohio River) | From the confluence with Humphrey Creek to approximately 0.45 mile upstream of the confluence with Humphrey Creek | +332 | +331 | Unincorporated Areas of Ballard County.
Mississippi River | Approximately 3.5 miles downstream of the confluence with the Ohio River | +330 | +329 | City of Wickliffe, Unincorporated Areas of Ballard County.
| Approximately 0.5 mile upstream of the confluence with the Ohio River | +331 | +330
Ohio River | Approximately 3.0 miles upstream of the confluence with the Mississippi River | +331 | +330 | Unincorporated Areas of Ballard County.
| Approximately 6.3 miles upstream of Lock and Dam 53 | +335 | +334
Stovall Creek (backwater effects from Mississippi River) | From the confluence with the Mississippi River to approximately 1 mile upstream of Mayfield Road | +330 | +329 | Unincorporated Areas of Ballard County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Wickliffe
Maps are available for inspection at 321 Court Street, Wickliffe, KY 42087.
Unincorporated Areas of Ballard County
Maps are available for inspection at 134 North 4th Street, Wickliffe, KY 42087.

(Catalog of Federal Domestic Assistance No. 97.022, “Flood Insurance.”)

Dated: November 8, 2012.
James A. Walke,
Acting Deputy Associate Administrator for Mitigation, Department of Homeland Security, Federal Emergency Management Agency.

[FR Doc. 2012-29698 Filed 12-7-12; 8:45 am]

BILLING CODE 9110-12-P